DEPARTMENT OF HEALTH AND HUMAN SERVICES

National Institutes of Health

National Institute of Diabetes and Digestive and Kidney Diseases; Cancellation of Meeting

Notice is hereby given of the cancellation of the National Institute of Diabetes and Digestive and Kidney Diseases Special Emphasis Panel, December 6, 2018, 6:00 p.m. to December 7, 2018, 5:00 p.m., Residence Inn Arlington Pentagon City, 550 Army Navy Drive, Arlington, VA, 22202 which was published in the Federal Register on October 26, 2018, FR Doc. 23393.

This meeting has been cancelled and will be rescheduled.

Dated: November 29, 2018.
Melanie J. Pantoja,
Program Analyst, Office of Federal Advisory Committee Policy.

[FR Doc. 2018-26386 Filed 12-4-18; 8:45 am]

BILLING CODE 4140-01-P